NUCLEAR REGULATORY COMMISSION

10 CFR Part 73

[NRC-2010-0340; Draft NUREG-0561, Revision 2]

RIN 3150-AI64

Physical Protection of Shipments of Irradiated Reactor Fuel

AGENCY: Nuclear Regulatory Commission.

ACTION: Notice of availability of draft guidance for public comment.

SUMMARY: The U.S. Nuclear Regulatory Commission (NRC) is proposing to amend its security regulations pertaining to the transport of irradiated reactor fuel (for purposes of this rulemaking, the terms “irradiated reactor fuel” and “spent nuclear fuel” (SNF) are used interchangeably). The NRC has prepared a revision to current guidance to address implementation of the proposed regulations. This notice is announcing the availability of the draft guidance for public comment.

DATES: Submit comments by February 11, 2011. Comments received after this date will be considered if it is practical to do so, but the NRC is able to assure consideration only for comments received on or before this date.

ADDRESSES: Please include Docket ID: NRC-2010-0340 in the subject line of your comments. For instructions on submitting comments and accessing documents related to this action, see Section I, “Submitting Comments and Accessing Information” in the SUPPLEMENTARY INFORMATION section of this document. You may submit comments by any one of the following methods.

Federal Rulemaking Web site: Go to http://www.regulations.gov and search for documents filed under Docket ID: NRC-2010-0340. Address questions about NRC dockets to Carol Gallagher, telephone (301) 492-3668; e-mail Carol.Galagher@nrc.gov.

Mail comments to: Cindy Bladey, Chief, Rules, Announcements, and Directives Branch (RADB), Office of Administration, Mail Stop: TWB-05-B01M, U.S. Nuclear Regulatory Commission, Washington, DC 20555-0001.

Fax comments to: RADB at (301) 492-3446.

FOR FURTHER INFORMATION CONTACT: R. Clyde Ragland, Office of Nuclear Security, and Incident Response, U.S. Nuclear Regulatory Commission, Washington, DC 20555-0001, telephone (301) 415-7008, e-mail Clyde.Ragland@nrc.gov.

SUPPLEMENTARY INFORMATION:

Submitting Comments and Accessing Information

Comments submitted in writing or in electronic form will be posted on the NRC Web site and on the Federal rulemaking Web site http://www.regulations.gov. Because your comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed.

You can access publicly available documents related to this document using the following methods:

NRC's Public Document Room (PDR): The public may examine and have copied for a fee, publicly available documents at the NRC's PDR, Room O-1F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, or 301-415-4737, or by e-mail to PDR.Resource@nrc.gov. The draft implementation guidance is available electronically under ADAMS Accession Number ML101800231.

Federal Rulemaking Website: Public comments and supporting materials related to the implementation guidance, including the draft implementation guidance, can be found at http://www.regulations.gov by searching on Docket ID: NRC-2010-0340. Documents related to the proposed rule can be found by searching on Docket ID: NRC-2009-0163.

Discussion

The NRC recently published a proposed rule that would revise and amend the security regulations pertaining to the transport of spent nuclear fuel. The proposed rule was published on October 13, 2010 (75 FR 62695), and the public comment period runs through January 11, 2011. Documents related to the proposed rule can be found at http://www.regulations.gov by searching on Docket ID: NRC-2009-0163.

In conjunction with the proposed rule, the NRC has revised NUREG-0561, “Physical Protection of Shipments of Irradiated Reactor Fuel.” This document provides guidance to a licensee or applicant for implementation of proposed 10 CFR 73.37, “Requirements for Physical Protection of Irradiated Reactor Fuel in Transit.” and proposed 10 CFR 73.38, “Personnel Access Authorization Requirements for Irradiated Reactor Fuel in Transit.” It is intended for use by applicants, licensees, and NRC staff. Revised NUREG-0561 describes methods acceptable to the NRC staff for implementing the proposed rules. The approaches and methods described in the document are provided for information only. Methods and solutions different from those described in the document are acceptable if they meet the requirements in proposed 10 CFR 73.37 and 10 CFR 73.38 as applicable. Revised NUREG-0561 is available electronically under ADAMS Accession Number ML101800231, and can be found at http://www.regulations.gov by searching on Docket ID: NRC-2010-0340.

At this time, the NRC is announcing the availability for public comment of NUREG-0561, Revision 2, “Physical Protection of Shipments of Irradiated Reactor Fuel.” The document provides guidance on implementing the provisions of proposed 10 CFR 73.37, “Requirements for Physical Protection of Byproduct Material” and proposed 10 CFR 73.38, “Personnel Access Authorization Requirements for Irradiated Reactor Fuel in Transit.”

Dated at Rockville, Maryland, this 25th day of October 2010.
For the Nuclear Regulatory Commission.
Robert K. Caldwell,
Chief, Fuel Cycle and Transportation Security Branch, Division of Security Policy, Office of Nuclear Security and Incident Response.

[FR Doc. 2010-27825 Filed 11-2-10; 8:45 am]

BILLING CODE 7590-01-P